INTERNATIONAL TRADE COMMISSION

[Investigation No. 731-TA-702 (Review)]

Ferrovanadium and Nitrided Vanadium From Russia

Determination

On the basis of the record ¹ developed in the subject five-year review, the United States International Trade Commission determines, pursuant to section 751(c) of the Tariff Act of 1930 (19 U.S.C. § 1675(c)) (the Act), that revocation of the antidumping duty order on ferrovanadium and nitrided vanadium from Russia would be likely to lead to continuation or recurrence of material injury to an industry in the United States within a reasonably foreseeable time.

¹ The record is defined in sec. 207.2(f) of the Commission's Rules of Practice and Procedure (19 CFR § 207.2(f)).

Background

The Commission instituted this review on June 5, 2000 (65 FR 35668) and determined on September 1, 2000 that it would conduct a full review (65 FR 55047, September 12, 2000). Notice of the scheduling of the Commission's review and of a public hearing to be held in connection therewith was given by posting copies of the notice in the Office of the Secretary, U.S. International Trade Commission, Washington, DC, and by publishing the notice in the Federal Register on November 29, 2000 (65 FR 71120). The hearing was held in Washington, DC, on March 15, 2001, and all persons who requested the opportunity were permitted to appear in person or by counsel.

The Commission transmitted its determination is this investigation to the Secretary of Commerce on May 15, 2001. The views of the Commission are contained in USITC publication 3420 (May 2001), entitled Ferrovanadium and Nitrided Vanadium from Russia (Inv. No. 731-TA-702 (Review)).

By order of the Commission.
Issued: May 16, 2001.
Donna R. Koehnke,
Secretary.

[FR Doc. 01-12883 Filed 5-22-01; 8:45 am]

BILLING CODE 7020-02-P